DEPARTMENT OF TRANSPORTATION

Surface Transportation Board

[Docket No. FD 35754]

RSL Railroad, LLC—Lease and Operation Exemption—Line of Norfolk Southern Railway Company

RSL Railroad, LLC (RSL), a Class III rail carrier, has filed a verified notice of exemption under 49 CFR 1150.41 to lease from Norfolk Southern Railway Company (NSR), and to operate, an approximately 1.40-mile rail line, known as the South Massillon IT, between mileposts MT 0.00 and MT 1.40 in Massillon, Ohio.

RSL states that it currently provides service over a 1.27-mile segment of track owned by the Massillon Energy & Technology Park in Massillon, and by this transaction will extend its operations by 1.40 additional miles, reaching a new connection and interchange point with NSR at milepost MT 0.00.

The transaction may be consummated on or after September 7, 2013, the effective date of the exemption (30 days after the exemption was filed).

RSL certifies that its projected annual revenues as a result of this transaction will not exceed $5 million or result in the creation of a Class II or Class I rail carrier.

If the verified notice contains false or misleading information, the exemption is void ab initio. Petitions to revoke the exemption under 49 U.S.C. 10502(d) may be filed at any time. The filing of a petition to revoke will not automatically stay the effectiveness of the exemption. Petitions for stay must be filed no later than August 30, 2013 (at least seven days before the exemption becomes effective).

An original and ten copies of all pleadings, referring to Docket No. FD 35754, must be filed with the Surface Transportation Board, 395 E Street SW., Washington, DC 20423-0001. In addition, one copy of each pleading must be served on John D. Heffner, Strasburger & Price, LLP, 1700 K St. NW., Suite 640, Washington, DC 20006.

Board decisions and notices are available on our Web site at www.stb.dot.gov.

Decided: August 16, 2013.
By the Board, Rachel D. Campbell, Director, Office of Proceedings.
Jeffrey Herzig,
Clearance Clerk.

[FR Doc. 2013-20633 Filed 8-22-13; 8:45 am]

BILLING CODE 4915-01-P